DEPARTMENT OF HOMELAND SECURITY

[DHS-2005-0051]

Science and Technology Directorate, Office of Systems Engineering and Development; SAFECOM Interoperability Baseline Survey

AGENCY: Office of Systems Engineering and Development, DHS.

ACTION: Notice and request for comment.

SUMMARY: The Department of Homeland Security (DHS) is soliciting public comment on the Office of Systems Engineering and Development SAFECOM Interoperability Baseline Survey. This proposed information collection was previously published in the Federal Register on December 19, 2005 and allowed 60 days for public comment. One public comment was received. The purpose of this notice is to allow an additional 30 days for public comment.

DATES: Comments are encouraged and will be accepted until April 17, 2006. This process is conducted in accordance with 5 CFR 1320.10

ADDRESSES: You may submit comments, identified by docket number DHS-2005-0051, by one of the following methods:

• Federal eRulemaking Portal: http://www.regulations.gov. Follow the instructions for submitting comments.

• E-mail: baseline@dhs.gov Include docket number DHS-2005-0051 in the subject line of the message.

• Mail: Morgan Gallagher, Science and Technology Directorate, Office of Systems Engineering and Development (SED), Washington Navy Yard, 245 Murray Lane, SW., Bldg. #410, Washington, DC 20528.

FOR FURTHER INFORMATION CONTACT: Morgan Gallagher, 202-254-6635 (this is not a toll free number).

SUPPLEMENTARY INFORMATION: DHS, as part of its continuing effort to reduce paperwork and respondents' burden, invites the general public to take this opportunity to comment on this proposed information collection as required by the Paperwork Reduction Act of 1995, Public Law 104-13 (44 U.S.C. 3506(c)(2)(A)). This collection is the “SAFECOM Interoperability Baseline Survey.”

Description: SAFECOM was established as the overarching umbrella program within the Federal Government that oversees all initiatives and projects pertaining to public safety communications and interoperability. The SAFECOM Interoperability Baseline Survey is an essential step in a mission to provide public safety communications interoperability nationwide.

In developing SAFECOM, DHS has worked extensively with the public safety community to create a descriptive and measurable definition of public safety interoperability that takes into account issues of governance, procedure, technology, training, and usage. The SAFECOM Interoperability Baseline Survey, which was developed from this definition, will allow DHS to measure the current state of interoperability among state and local public safety practitioners. This will provide a baseline against which to track the future impact of Federal programs and provide a basis for identifying and executing specific projects to improve communications interoperability.

Public Participation

Interested persons are invited to participate in this Information Collection Request by submitting written data, views, or arguments on all aspects of the proposed Information Collection Request. DHS also invites comments that relate to the economic, environmental, or federalism affects that might result from this Information Collection Request. Comments that will provide the most assistance to DHS in developing these procedures will reference a specific portion of the Information Collection Request, explain the reason for any recommended change, and include data, information, or authority that support such recommended change.

Instructions: All submissions received must include the agency name and docket number DHS-2005-0051 for this Information Collection Request. All comments received will be posted without change to http://www. regulations.gov, including any personal information provided.

Docket: For access to the docket to read background documents or comments received, go to http://www.regulations.gov.

Analysis

Agency: Department of Homeland Security, Science and Technology Directorate, Office of Systems Engineering and Development.

Title: SAFECOM Interoperability Baseline Survey.

OMB Control Number: 1640-NEW.

Frequency: On occasion.

Affected Public: State, Local or Tribal Government.

Estimated Number of Respondents: 18,411 (increased from 18,375 to include site visit interviews and reflect those people associated with the interviews).

Estimated Time Per Response: 20 minutes per survey, one hour per interview (36 interviews altogether).

Total Burden Hours: 6,161 (increased from 6,125 in the December 19, 2005 notice in order to reflect the time involved in the interviews).

Total Cost Burden: None.

Dated: March 8, 2006.
Scott Charbo,
Chief Information Officer.

[FR Doc. E6-3822 Filed 3-15-06; 8:45 am]

BILLING CODE 4410-10-P